DEPARTMENT OF TRANSPORTATION

Federal Aviation Administration

14 CFR Part 71

[Docket No. FAA-2006-25180; Airspace Docket No. 06-AAL-19]

Establishment of Class E Airspace; Kokhanok, AK

AGENCY: Federal Aviation Administration (FAA), DOT.

ACTION: Final rule; correction.

SUMMARY: This action corrects an error in the location name (Kokhanok) contained in a Final Rule that was published in the Federal Register on Tuesday, October 10, 2006 (71 FR 59372). Airspace Docket No. 06-AAL-19.

DATES: Effective Date: 0901 UTC, November 23, 2006. The Director of the Federal Register approves this incorporation by reference action under title 1, Code of Federal Regulations, part 51, subject to the annual revision of FAA Order 7400.9 and publication of conforming amendments.

FOR FURTHER INFORMATION CONTACT: Gary Rolf, AAL-538G, Federal Aviation Administration, 222 West 7th Avenue, Box 14, Anchorage, AK 99513-7587; telephone number (907) 271-5898; fax: (907) 271-2850; e-mail: gary.ctr.rolf@faa.gov. Internet address: http://www.alaska.faa.gov/at.

SUPPLEMENTARY INFORMATION:

History

Federal Register Document 06-8523, Airspace Docket No. 06-AAL-19, published on Tuesday, October 10, 2006 (71 FR 59372), established Class E airspace at Kokhanok, AK. An error was discovered in the spelling of the airport name, Kokhanok. This action corrects that error.

Correction to Final Rule

Accordingly, pursuant to the authority delegated to me, the airspace description of the Class E airspace published in the Federal Register, Tuesday, October 10, 2006 (71 FR 59372), (FR Doc 06-8523, page 59372, all references to Kokhanok) is corrected as follows:

§ 71.1 [Corrected]

* * * * *

AAL AK E5 Kokhanok, AK [New]

Kokhanok Airport, AK

(Lat. 59°26′00″ N., long. 154°48′09″ W.)

That airspace extending upward from 700 feet above the surface within a 6.9-mile radius of the Kokhanok Airport, and that airspace 1 mile noth and 1 mile south of the 260° bearing from the Kokhanok Airport extending from the 6.9-mile radius to 8.8 miles west of the Kokhanok Airport, and that airspace extending upward from 1,200 feet above the surface within a 49-mile radius of the Kokhanok Airport.

* * * * *

Issued in Anchorage, AK, on November 16, 2006.
Linda J. Couture,
Acting Director, Alaska Flight Service Information Office.

[FR Doc. 06-9515 Filed 12-1-06; 8:45 am]

BILLING CODE 4910-13-M